DEPARTMENT OF AGRICULTURE

Food and Nutrition Service

Agency Information Collection Activities: Proposed Collection; Comment Request—Evaluation of the Fresh Fruit and Vegetable Program (FFVP)

AGENCY: Food and Nutrition Service (FNS), USDA.

ACTION: Notice.

SUMMARY: In accordance with the Paperwork Reduction Act of 1995, this notice invites the general public and other public agencies to comment on this proposed information collection. This collection is a new collection for the Food and Nutrition Service Evaluation of the Fresh Fruit and Vegetable Program (FFVP) to examine how the Fresh Fruit and Vegetable Program is currently being implemented and to estimate program impacts on participating students.

DATES: Written comments must be received on or before November 2, 2009.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Steven Carlson, Director, Office of Research and Analysis, Food and Nutrition Service, U.S. Department of Agriculture, 3101 Park Center Drive, Room 1014, Alexandria, VA 22302. Comments may also be submitted via fax to the attention of Steven Carlson at 703-305-2576 or via e-mail to Steve.Carlson@fns.usda.gov. Comments will also be accepted through the Federal eRulemaking Portal. Go to http://www.regulations.gov, and follow the online instructions for submitting comments electronically.

All written comments will be open for public inspection at the office of the Food and Nutrition Service during regular business hours (8:30 a.m. to 5 p.m. Monday through Friday) at 3101 Park Center Drive, Room 1014, Alexandria, Virginia 22302.

All responses to this notice will be summarized and included in the request for Office of Management and Budget approval. All comments will be a matter of public record.

FOR FURTHER INFORMATION CONTACT: Requests for additional information or copies of this information collection should be directed to Steven Carlson at 703-305-2017.

SUPPLEMENTARY INFORMATION: Title: Food and Nutrition Service Evaluation of the Fresh Fruit and Vegetable Program.

OMB Number: Not Yet Assigned.

Expiration Date: Not Yet Determined.

Type of Request: New collection.

Abstract: The Fresh Fruit and Vegetable Program (FFVP) is intended to fight childhood obesity and improve overall diet quality by teaching children more healthful eating habits. The FFVP began as a pilot project in four states pursuant to provisions of the Farm Security and Rural Investment Act of 2002 (Pub. L. 107-171). Schools selected to participate in the FFVP are reimbursed for providing free fresh fruits and vegetables to students during the school day, outside of normal school breakfast and lunch meals. Under section 4304 of the Food, Conservation, and Energy Act of 2008 (Pub. L. 110-246), the Richard B. Russell National School Lunch Act (NSLA) was amended to authorize the expansion of the FFVP to selected schools nationwide, including Guam, Puerto Rico, and the Virgin Islands. This was accomplished by incorporating the FFVP into its own section in the NSLA, section 19, 42 U.S.C. 1770. As part of this authorizing legislation, the Secretary of Agriculture was tasked in section 19(h) with conducting an evaluation of the FFVP. The legislation states:

“(1) In General.—The Secretary shall conduct an evaluation of the program, including a determination as to whether children experienced, as a result of participating in the program—

(A) Increased consumption of fruits and vegetables;

(B) other dietary changes, such as decreased consumption of less nutritious foods; and

(C) such other outcomes as are considered appropriate by the Secretary.”

The evaluation of the FFVP has two main objectives: (1) To examine how the FFVP is currently being implemented, and (2) to estimate program impacts on participating students. To address these objectives, FNS has specified 36 research questions that are grouped into six broad research categories for the evaluation:

1. Description of participating schools.

2. Description of participating children.

3. Description of FFVP implementation.

4. Examine impacts of FFVP on school environment.

5. Examine program impacts on children including consumption of fresh fruits and vegetables, consumption of other foods, nutritional status and attitudes towards fresh fruits and vegetables.

6. Examine contextual effects of nutrition education and delivery systems on FFVP.

To evaluate program impacts on participating students, data will be collected from 6,144 students in grades 4-6 in 256 public elementary schools in 16 states as well as parents, teachers, school food service managers and principals. Half (128) of the sampled schools will participate in the FFVP and the other half (128) will be non-FFVP participating schools. To examine the implementation of the FFVP, data will be collected from an additional 448 schools that participate in the FFVP to provide a random sample of all schools participating in the program. Implementation data will also be collected from the 128 participating schools in the impact study, thus totaling 576 schools for the implementation study.

Affected Public: State, Local and Tribal, Individuals and Households—Respondent groups identified include: (1) State Child Nutrition (CN) Directors; (2) Directors of School Food Authorities (SFAs); (3) School Principals; (4) School food service managers; (5) Teachers; (6) Students (grades 4, 5 and 6); and (7) Parents of sampled students.

Estimated Number of Respondents: The total estimated number of respondents is 18,854. This includes: 7,680 students (80% will complete interview; subsample will complete a second 24-hour dietary recall); 7,680 parents (80% will complete brief questionnaire); 768 teachers (90 percent will complete brief questionnaire); 256 school food service managers (95 percent will complete brief interview); 816 school principals (86 percent will complete Web survey); 816 SFA directors (86 percent will complete Web survey), and 54 State CN Directors (90 percent will complete Web survey), 16 of whom will provide some additional administrative data for the impact study states.

Estimated Number of Responses per Respondent: Two major types of data collection activities will be used: Web surveys with three respondent groups and in-school data collection with five different respondent groups. State CN Directors or designees will be asked to participate in two Web surveys, and those agencies in the 16 impact study states will provide additional detail on FFVP applications and reimbursements. SFA Directors and Principals will each participate in one Web survey. School food service managers will be interviewed in person two times on sample days for information about foods served in FFVP, and school meals (School Breakfast Program and National School Lunch Program) on those days. Teachers and parents of sampled students will each complete one short questionnaire. Sampled students will all participate in an individual 24-hour dietary recall which may be assisted by a one-day food diary. A subsample of the students will complete a second 24-hour dietary recall on a nonconsecutive day, which may be assisted by a one-day food diary.

Estimated Total Annual Responses: 19,180.

Estimated Time per Response: About 30 minutes (0.48 hours). The estimated time of response varies from 3 to 65 minutes depending on respondent group, as shown in the table below.

Estimated Total Annual Burden on Respondents: 508,668 minutes (8,477.8 hours). See the table below for estimated total annual burden for each type of respondent. The burden estimates assume the use of a one-day food diary completed by sampled students and a second one-day food diary completed by a 10% subsample of students which may be deemed necessary for collecting usual intake of foods and/or nutrients. If the food diaries are not included, the burden estimates would be lower.

Respondent |  | Estimated number of respondents | Responses annually per respondent | Total annual responses | Estimated average number of hours per response | Estimated total hours
Students—record-assisted dietary recalls | Completed | 6,144 | 1.00 | 6,144.0 | 1.0833 | 6655.8
| Attempted | 1,536 | 1.00 | 1536.0 | 0.0500 | 76.8
Students—second dietary recall (10% subsample) | Completed | 614 | 1.00 | 614.0 | 0.5833 | 358.1
| Attempted | 154 | 1.00 | 154.0 | 0.0500 | 7.7
Parents | Completed | 6,144 | 1.00 | 6,144.0 | 0.0833 | 511.8
| Attempted | 1,536 | 1.00 | 1,536.0 | 0.0500 | 76.8
Teachers | Completed | 691 | 1.00 | 691.0 | 0.0833 | 57.6
| Attempted | 77 | 1.00 | 77.0 | 0.0500 | 3.9
School Food Service Managers | Completed | 243 | 2.00 | 486.0 | 0.1667 | 81.0
| Attempted | 13 | 2.00 | 26.0 | 0.0500 | 1.3
School Principals | Completed | 704 | 1.00 | 704.0 | 0.3333 | 234.6
| Attempted | 112 | 1.00 | 112.0 | 0.0500 | 5.6
State CN Directors | Completed | 49 | 2.00 | 98.0 | 0.3333 | 32.7
| Attempted | 5 | 2.00 | 10.0 | 0.0500 | 0.5
State CN Directors (Administrative Data) | Completed | 16 | 2.00 | 32.0 | 0.5000 | 16.0
| Attempted | 0 | 2.00 | 0.0 | 0.0500 | 0.0
School Food Authority (SFA) Directors | Completed | 704 | 1.00 | 704.0 | 0.5000 | 352.0
| Attempted | 112 | 1.00 | 112.0 | 0.0500 | 5.6
Totals |  | 18,854 |  | 19,180.0 |  | 8,477.8

Dated: August 25, 2009.
Julia Paradis,
Administrator, Food and Nutrition Service.

[FR Doc. E9-21067 Filed 8-31-09; 8:45 am]

BILLING CODE 3410-30-P